DEPARTMENT OF HEALTH AND HUMAN SERVICES

Administration for Children and Families

Administration on Children, Youth and Families

AGENCY: Administration on Children, Youth and Families, Administration for Children and Families.

ACTION: Single-Source Non-Competitive Continuation Award.

CFDA Number: 93.623.

Legislative Authority: Public Law (Pub. L.) 108-96, Runaway, Homeless, and Missing Children Protection Act of 2003.

Amount of Award: $124,000 for one year.

Project Period: September 30, 2006-September 29, 2007.

This notice announces the award of a single-source non-competition continuation award to the Presbyterian Hospitality House (PHH) to complete the third and final year of a grant that was awarded originally in Fiscal Year 2004 to the Fairbanks Native Association (FNA). Continuation funds that were allocated for this three-year grant are now relinquished by FNA.

On September 20, 2005, PHH was awarded a one-year non-competitive successor grant to replace FNA as the grantee. PHH is a leader in assessing the need and benefits of positive youth development in Fairbanks, Alaska. There was very little disruption of activities during the transfer of the grant. Continuation of these activities in central Alaska by an entity that already supports homeless youth is the best option for successful completion of the project.

The need for this Basic Center still exists as it did when the grant was originally awarded in the Fiscal Year 2004. There will be no significant change in project activities. There is no new funding available for Basic Center program in the State of Alaska for FY 2007.

For Further Information Contact: Curtis Porter, Director, Youth Development Division, Family and Youth Services Bureau, Administration for Children, Youth and Families, Administration for Children and Families, Portals Building, Suite 800, 1250 Maryland Avenue, SW., Washington, DC 20024. Telephone: 202-205-8102.

Dated: September 27, 2006.
Joan E. Ohl,
Commissioner, Administration on Children, Youth and Families.

[FR Doc. E6-16369 Filed 10-3-06; 8:45 am]

BILLING CODE 4184-01-P